DEPARTMENT OF EDUCATION

Rehabilitation Training: Rehabilitation Long-Term Training Program—Vocational Rehabilitation Counseling

AGENCY: Office of Special Education and Rehabilitative Services, Department of Education.

ACTION: Notice of final priority.

SUMMARY: The Assistant Secretary for the Office of Special Education and Rehabilitative Services announces a priority under the Rehabilitation Training: Rehabilitation Long-Term Training program. The Assistant Secretary may use this priority for competitions in fiscal year (FY) 2003 and in later years. We take this action to focus on training in an area of national need. This priority is designed to increase the number of rehabilitation counseling programs that provide experiential activities for students, such as formal internships, practicum agreements, and other partnership activities with State vocational rehabilitation (VR) agencies. This priority supports a close relationship between the educational institution and the State VR agency by creating or increasing ongoing collaboration in order to increase the number of graduates who seek employment in State VR agencies.

EFFECTIVE DATES: This priority is effective February 14, 2003.

FOR FURTHER INFORMATION CONTACT: Beverly Steburg, U.S. Department of Education, RSA, 61 Forsyth Street, SW., Suite 18T91, Atlanta, GA 30303. Telephone (404) 562-6336 or via Internet: Beverly.Steburg@ed.gov

If you use a telecommunications device for the deaf (TDD), you may call the TDD number at (202) 205-8133.

Individuals with disabilities may obtain this document in an alternative format (e.g., Braille, large print, audiotape, or computer diskette) on request to the contact person listed under FOR FURTHER INFORMATION CONTACT.

SUPPLEMENTARY INFORMATION: State VR agencies throughout the nation are experiencing a personnel shortage of qualified VR counselors. While currently only a small percentage of Rehabilitation Services Administration (RSA)-funded graduates seek employment with State VR agencies, a survey conducted by the Council of State Administrators of Vocational Rehabilitation indicates that individuals who are aware of the distinct role of the qualified VR counselor and benefits of employment within a State VR agency are more likely to seek employment with the State.

This priority increases the number of rehabilitation counseling projects that incorporate formal experiential activities for students with State VR agencies.

We published a notice of proposed priority for this program in the Federal Register on August 19, 2002 (67 FR 53870). The notice of proposed priority included a discussion of the significant issues and analysis used in the determination of this priority.

There are no differences between the notice of proposed priority and this notice of final priority.

Analysis of Comments and Changes

In response to our invitation in the notice of proposed priority, eight parties submitted comments on the proposed priority. An analysis of the comments and of any changes in the priority since publication of the notice of proposed priority follows.

Generally, we do not address technical and other minor changes—and suggested changes the law does not authorize us to make under the applicable statutory authority. We may choose to address those changes if we received a significant number of comments on a particular issue.

Comments: Two commenters recommended that the priority not establish new counseling training programs but be earmarked to provide support to a greater number of existing rehabilitation counselor training programs.

Discussion: The program authority establishes eligible applicants for the program. We have no authority to further restrict applicant eligibility.

Changes: None.

Comments: Three commenters recommended that funds be used to provide existing programs with support to conduct recruitment programs to encourage more students to enter rehabilitation counseling programs.

Discussion: We agree that recruitment activities to encourage more individuals to enter rehabilitation counseling programs are important. Grantees may use non-scholarship project funds to support recruitment activities. RSA also supports recruitment activities through other avenues, including the Regional Rehabilitation Continuing Education Program (RRCEP).

Changes: None.

Comments: Four commenters recommended using scholarship funds to provide paid internships with State VR agencies.

Discussion: The Rehabilitation Long-Term Training program limits scholarship assistance to the individual's cost of attendance at the academic degree or certificate-granting institution. Scholarships include payback obligations upon completion of the course of study, and grantees may not require other work as a condition of scholarships.

Changes: None.

Comment: One commenter recommended limiting internships with experiential opportunities to specific need areas within rehabilitation counseling, including the use of innovative technologies, multicultural competency, and counseling of particular disability groups.

Discussion: While it is possible for RSA to limit the required internship activities to particular counseling areas, we choose not to do so in this priority. Programs may choose in their applications to develop internships with a particular focus, including those listed by the commenter. Peer reviews of all applications received will assess the value of proposed projects. We encourage programs and students to explore any experiential activities that enhance students' knowledge of the VR system.

Changes: None.

Note: This notice does not solicit applications. In any year in which we choose to use this priority, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Priority

Partnership With the State VR Agency

This priority supports projects that will increase the knowledge of students of the role and responsibilities of the VR counselor and of the benefits of counseling in State VR agencies. This priority focuses attention on and intends to strengthen the unique role of rehabilitation educators and State VR agencies in the preparation of qualified VR counselors by increasing or creating ongoing collaboration between institutions of higher education and State VR agencies.

Projects funded under this priority must include within the degree program information about and experience in the State VR system. Projects must include partnering activities for students with the State VR agency including experiential activities, such as formal internships or practicum agreements. In addition, experiential activities for students with community-based rehabilitation service providers are encouraged.

Projects must include an evaluation of the impact of project activities.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR parts 385 and 386.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number 84.129B Rehabilitation Long-Term Training)

Program Authority: 29 U.S.C. 772.

Dated: January 10, 2003.
Robert H. Pasternack,
Assistant Secretary for Special Education and Rehabilitative Services.

[FR Doc. 03-868 Filed 1-15-03; 8:45 am]

BILLING CODE 4000-01-U